NUCLEAR REGULATORY COMMISSION

[Docket No. 50-244]

Rochester Gas and Electric Corporation (R.E. Ginna Nuclear Power Plant); Order Modifying May 28, 2004, Order Approving Transfer of License and Conforming Amendment

I.

Rochester Gas and Electric Corporation (RG&E) is the holder of Renewed Facility Operating License No. DPR-18, which authorizes the operation of R.E. Ginna Nuclear Power Plant (Ginna) at steady-state power levels not in excess of 1520 megawatts thermal. The facility is located on the south shore of Lake Ontario, in Wayne County, New York. The license authorizes Ginna to possess, use, and operate the facility.

II.

By Order dated May 28, 2004, the Nuclear Regulatory Commission (NRC or the Commission) approved the transfer of the license for Ginna from RG&E to R.E. Ginna Nuclear Power Plant, LLC (Ginna LLC), a subsidiary of Constellation Generation Group, LLC (CGG). Condition III.(2) of the May 28, 2004, Order specified that on the closing date Ginna LLC shall obtain from RG&E a minimum of $201.6 million for decommissioning funding assurance for the facility. This amount was based on a June 30, 2004, closing date. By letter dated June 2, 2004, CGG and RG&E informed the NRC that the closing would occur on June 10, 2004. According to a June 3, 2004, submittal from CGG, the minimum amount that Ginna LLC will obtain from RG&E, based on a June 10, 2004, closing date, is $200,791,928 under the terms of the agreement of sale between RG&E and Ginna LLC.

III.

Accordingly, pursuant to sections 161b, 161i, and 184 of the Atomic Energy Act of 1954, as amended, 42 U.S.C. 2201(b), 2201(i), and 2234; and 10 CFR 50.80, it is hereby ordered that Condition III.(2) of the Order Approving Transfer of License and Conforming Amendment dated May 28, 2004, is modified to state:

On the closing date of the transfer of Ginna, Ginna LLC shall obtain from RG&E the greater of (1) $200,791,928 or (2) the amount necessary to meet the minimum formula amount under 10 CFR 50.75 calculated as of the date of closing for decommissioning funding assurance for the facility, and ensure the deposit of such funds into a decommissioning trust for Ginna established by Ginna LLC.

This Order is effective upon issuance.

For further details with respect to this Order, see the initial application dated December 16, 2003, and supplemental letters from RG&E dated March 26, and April 30, 2004, and from CGG dated February 27, April 30, May 24, June 2, and June 3, 2004, and the Order and Safety Evaluation dated May 28, 2004, which are available for public inspection at the Commission's Public Document Room, located at One White Flint North, File Public Area O1F21, 11555 Rockville Pike (first floor), Rockville, Maryland, and accessible electronically through the Agencywide Documents Access and Management System (ADAMS) Public Electronic Reading Room link at the NRC Web site (http://www.nrc.gov).

Dated in Rockville, Maryland, this 4th day of June, 2004.
For the Nuclear Regulatory Commission.
J.E. Dyer,
Director, Office of Nuclear Reactor Regulation.

[FR Doc. 04-13255 Filed 6-10-04; 8:45 am]

BILLING CODE 7590-01-P